ENVIRONMENTAL PROTECTION AGENCY

[EPA-HQ-OPPT-2009-0741; FRL-8793-7]

Certain New Chemicals; Receipt and Status Information

AGENCY: Environmental Protection Agency (EPA).

ACTION: Notice.

SUMMARY: Section 5 of the Toxic Substances Control Act (TSCA) requires any person who intends to manufacture (defined by statute to include import) a new chemical (i.e., a chemical not on the TSCA Inventory) to notify EPA and comply with the statutory provisions pertaining to the manufacture of new chemicals. Under sections 5(d)(2) and 5(d)(3) of TSCA, EPA is required to publish a notice of receipt of a premanufacture notice (PMN) or an application for a test marketing exemption (TME), and to publish periodic status reports on the chemicals under review and the receipt of notices of commencement to manufacture those chemicals. This status report, which covers the period from July 1, 2009 through August 14, 2009, consists of the PMNs pending or expired, and the notices of commencement to manufacture a new chemical that the Agency has received under TSCA section 5 during this time period.

DATES: Comments identified by the specific PMN number or TME number, must be received on or before November 6, 2009.

ADDRESSES: Submit your comments, identified by docket identification (ID) number EPA-HQ-OPPT-2009-0741, by one of the following methods:

• Federal eRulemaking Portal: http://www.regulations.gov. Follow the on-line instructions for submitting comments.

• Mail: Document Control Office (7407M), Office of Pollution Prevention and Toxics (OPPT), Environmental Protection Agency, 1200 Pennsylvania Ave., NW., Washington, DC 20460-0001.

• Hand Delivery: OPPT Document Control Office (DCO), EPA East Bldg., Rm. 6428, 1201 Constitution Ave., NW., Washington, DC. Attention: Docket ID Number EPA-HQ-OPPT-2009-0741. The DCO is open from 8 a.m. to 4 p.m., Monday through Friday, excluding legal holidays. The telephone number for the DCO is (202) 564-8930. Such deliveries are only accepted during the DCO's normal hours of operation, and special arrangements should be made for deliveries of boxed information.

Instructions: Direct your comments to docket ID number EPA-HQ-OPPT-2009-0741. EPA's policy is that all comments received will be included in the docket without change and may be made available on-line at http://www.regulations.gov, including any personal information provided, unless the comment includes information claimed to be Confidential Business Information (CBI) or other information whose disclosure is restricted by statute. Do not submit information that you consider to be CBI or otherwise protected through regulations.gov or e-mail. The regulations.gov website is an “anonymous access” system, which means EPA will not know your identity or contact information unless you provide it in the body of your comment. If you send an e-mail comment directly to EPA without going through regulations.gov, your e-mail address will be automatically captured and included as part of the comment that is placed in the docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket, visit the EPA Docket Center homepage at http://www.epa.gov/epahome/dockets.htm.

Docket: All documents in the docket are listed in the docket index available in regulations.gov. To access the electronic docket, go to http://www.regulations.gov, select “Advanced Search,” then “Docket Search.” Insert the docket ID number where indicated and select the “Submit” button. Follow the instructions on the regulations.gov website to view the docket index or access available documents. Although listed in the index, some information is not publicly available, e.g., CBI or other information whose disclosure is restricted by statute. Certain other material, such as copyrighted material, will be publicly available only in hard copy. Publicly available docket materials are available electronically at http://www.regulations.gov, or, if only available in hard copy, at the OPPT Docket. The OPPT Docket is located in the EPA Docket Center (EPA/DC) at Rm. 3334, EPA West Bldg., 1301 Constitution Ave., NW., Washington, DC. The EPA/DC Public Reading Room hours of operation are 8:30 a.m. to 4:30 p.m., Monday through Friday, excluding Federal holidays. The telephone number of the EPA/DC Public Reading Room is (202) 566-1744, and the telephone number for the OPPT Docket is (202) 566-0280. Docket visitors are required to show photographic identification, pass through a metal detector, and sign the EPA visitor log. All visitor bags are processed through an X-ray machine and subject to search. Visitors will be provided an EPA/DC badge that must be visible at all times in the building and returned upon departure.

FOR FURTHER INFORMATION CONTACT: Colby Lintner, Regulatory Coordinator, Environmental Assistance Division, Office of Pollution Prevention and Toxics (7408M), Environmental Protection Agency, 1200 Pennsylvania Ave., NW., Washington, DC 20460-0001; telephone number: (202) 554-1404; e-mail address: TSCA-Hotline@epa.gov.

SUPPLEMENTARY INFORMATION:

I. General Information

A. Does this Action Apply to Me?

This action is directed to the public in general. As such, the Agency has not attempted to describe the specific entities that this action may apply to. Although others may be affected, this action applies directly to the submitter of the premanufacture notices addressed in the action. If you have any questions regarding the applicability of this action to a particular entity, consult the person listed under FOR FURTHER INFORMATION CONTACT.

B. What Should I Consider as I Prepare My Comments for EPA?

1. Submitting CBI. Do not submit this information to EPA through regulations.gov or e-mail. Clearly mark the part or all of the information that you claim to be CBI. For CBI information in a disk or CD-ROM that you mail to EPA, mark the outside of the disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket ID number and other identifying information (subject heading, Federal Register date and page number).

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns and suggest alternatives.

vii. Explain your views as clearly as possible, avoiding the use of profanity or personal threats.

viii. Make sure to submit your comments by the comment period deadline identified.

II. Why is EPA Taking this Action?

Section 5 of TSCA requires any person who intends to manufacture (defined by statute to include import) a new chemical (i.e., a chemical not on the TSCA Inventory to notify EPA and comply with the statutory provisions pertaining to the manufacture of new chemicals. Under sections 5(d)(2) and 5(d)(3) of TSCA, EPA is required to publish a notice of receipt of a PMN or an application for a TME and to publish periodic status reports on the chemicals under review and the receipt of notices of commencement to manufacture those chemicals. This status report, which covers the period from July 1, 2009 through August 14, 2009, consists of the PMNs pending or expired, and the notices of commencement to manufacture a new chemical that the Agency has received under TSCA section 5 during this time period.

III. Receipt and Status Report for PMNs

This status report identifies the PMNs pending or expired, and the notices of commencement to manufacture a new chemical that the Agency has received under TSCA section 5 during this time period. If you are interested in information that is not included in the following tables, you may contact EPA as described in Unit I. to access additional non-CBI information that may be available.

In Table I of this unit, EPA provides the following information (to the extent that such information is not claimed as CBI) on the PMNs received by EPA during this period: the EPA case number assigned to the PMN; the date the PMN was received by EPA; the projected end date for EPA's review of the PMN; the submitting manufacturer; the potential uses identified by the manufacturer in the PMN; and the chemical identity.

I. 100 Premanufacture Notices Received From: 7/1/09 to 8/14/09
Case No. | Received Date | Projected Notice End Date | Manufacturer/Importer | Use | Chemical
P-09-0416 | 06/11/09 | 09/08/09 | CBI | (G) a polymer in an encapsulated photovultaic module | (G) 3′H-cyclopropacal- bopolycle- 3′butanoic acid. 3′-phenyl-, methyl ester; 3′H-cyclopropacarbopolycyle-3' butanoic acid, 3'- phenyl-, methyl ester
P-09-0470 | 06/30/09 | 09/27/09 | The Dow Chemical Company | (G) Gas treatment agent, contained use | (G) Sulfo-substituted metal heteropolycycle-mixed sodium, alkanolamine salt
P-09-0471 | 06/30/09 | 09/27/09 | The Dow Chemical Company | (G) Gas treatment agent, contained use | (G) Sulfo-substituted metal heteropolycycle-mixed sodium, alkanolamine salt
P-09-0472 | 06/30/09 | 09/27/09 | The Dow Chemical Company | (G) Gas treatment agent, contained use | (G) Sulfo-substituted metal heteropolycycle-mixed sodium, alkanolamine salt
P-09-0473 | 06/30/09 | 09/27/09 | PPG Industries, Inc. | (G) Component of a coating | (G) Polyurea isocyanate
P-09-0474 | 06/30/09 | 09/27/09 | PPG Industries, Inc. | (G) Component of a coating | (G) Polyurea isocyanate
P-09-0475 | 06/30/09 | 09/27/09 | PPG Industries, Inc. | (G) Component of a coating | (G) Polyurea isocyanate
P-09-0476 | 06/30/09 | 09/27/09 | PPG Industries, Inc. | (G) Component of a coating | (G) Polyurea isocyanate
P-09-0477 | 07/01/09 | 09/28/09 | 3M Company | (G) Fluorinated intermediate | (G) Fluoroalkyl sulfonamide
P-09-0478 | 07/01/09 | 09/28/09 | PPG Industries, Inc. | (G) Component of a coating | (G) Modified polyol
P-09-0479 | 06/25/09 | 09/22/09 | Lamberti USA, Inc. | (S) Co-photoinitiator for ultra violet-curable pigmentated inks; co-photoinitiator for photoresists, optical fibers and printed plates; co-photoinitiator for ultra violet-curable coatings; co-photoinitiator for ultra violet-curable adhesives and other coatings; non dispersive use | (S) Benzoic acid, 4-(dimethylamino)-, 1,1′-[(methylimino)di-2, 1-ethanedyl] ester
P-09-0480 | 06/25/09 | 09/22/09 | Lamberti USA, Inc. | (S) Co-photoinitiator for ultra violet-curable pigmentated inks; co-photoinitiator for photoresists, optical fibers and printed plates; co-photoinitiator for ultra violet-curable coatings; co-photoinitiator for ultra violet-curable adhesives and other coatings; non dispersive use | (S) 1-propanone, 1,1′ (oxydi-4, 1-phenylene) bis [2-hydroxy-2-methyl-
P-09-0481 | 07/01/09 | 09/28/09 | 3M Company | (S) Protector for textile | (G) Fluorinated polymer
P-09-0482 | 07/01/09 | 09/28/09 | CBI | (S) Dispersed rosin size for sizing of paper and paperboard | (G) Rosin, maleic anhydride, amine resin
P-09-0483 | 07/02/09 | 09/29/09 | CBI | (G) Additive, open, non-dispersive use | (G) Polyether modified polyamine
P-09-0484 | 07/02/09 | 09/29/09 | CBI | (G) Additive, open, non-dispersive use | (G) Polyether modified polyamine
P-09-0485 | 07/01/09 | 09/28/09 | 3M Company | (G) Fluorinated intermediate | (G) Fluorinated sulfonamide alcohol
P-09-0486 | 07/02/09 | 09/29/09 | CBI | (G) Lubricant additive | (G) Polyalkenyl, N,N′-bistriazole
P-09-0487 | 07/02/09 | 09/29/09 | CBI | (G) Emulsifier | (G) Organic phosphate esters
P-09-0488 | 07/02/09 | 09/29/09 | CBI | (G) Component of consumer product | (G) Substituted acrylic acid maleic anhydride copolymer
P-09-0489 | 07/02/09 | 09/29/09 | Firmenich Inc. | (S) Aroma for use in fragrance mixtures, which in turn are used in perfumes, soaps, cleansers, etc. | (S) Definition: Extractives and their physically modified derivatives. Periploca sepium.
P-09-0490 | 07/06/09 | 10/03/09 | Firmenich Inc. | (S) Aroma for use in fragrance mixtures, which in turn are used in perfumes, soaps, cleansers, etc. | (S) 2H-1,5-benzodioxepin-3 (4h)-one, 7-(1-methylethyl)-
P-09-0491 | 07/06/09 | 10/03/09 | Forests Pacific Biochemicals Corporation | (S) Fragrance ingredient | (S) Definition: Extractives and their physically modified derivatives. callitropsis nootkatensis. Oil, Callitropsis nootkatensis
P-09-0492 | 07/08/09 | 10/05/09 | CBI | (G) Sealant; adhesive | (G) Isocyanate polymer, amine blocked
P-09-0493 | 07/08/09 | 10/05/09 | CBI | (G) Sealant; adhesive | (G) Isocyanate polymer, amine blocked
P-09-0494 | 07/08/09 | 10/05/09 | CBI | (G) Sealant; adhesive | (G) Isocyanate polymer, amine blocked
P-09-0495 | 07/08/09 | 10/05/09 | CBI | (G) Sealant; adhesive | (G) Isocyanate polymer, amine blocked
P-09-0496 | 07/08/09 | 10/05/09 | CBI | (G) Sealant; adhesive | (G) Isocyanate polymer, amine blocked
P-09-0497 | 07/09/09 | 10/06/09 | Nanocyl Corporation, a Georgia Corporation | (S) Additivies to improve electrical, thermal and/or mechanical properties of thermoplastic, thermoset and coating materials | (S) Short tangled multi-wall carbon nanotubes obtained by catalytical chemical vapour deposition
P-09-0498 | 07/10/09 | 10/07/09 | CBI | (S) Part of a two-component gravure ink and overprinting lacquer system | (G) Aromatic dicarboxylic acid, polymer with cycloaliphatic diamine, 2-(chloromethyl)oxirane, alkyldioic acid and an aryl diphenol
P-09-0499 | 07/13/09 | 10/10/09 | CBI | (S) Raw material used in fuel cell applications. | (G) Aromatic polyether polymer
P-09-0500 | 07/14/09 | 10/11/09 | CBI | (S) Fluorescent whitening agent for uncoated paper (formulation 1). Fluorescent whitening agent for coated paper (formulation 2). | (G) 1,4-benzenedisulfonic acid, 2,2′-[1,2-ethenediylbis[(3-sulfo-4,1-phenylene)imino[6-[bis(alkanol)amino]-1,3,5-triazine-4,2-diyl]imino]]bis-, hexasodium salt
P-09-0501 | 07/14/09 | 10/11/09 | CBI | (G) Hole injection layer in a polymeric photovoltaic module. | (G) Hetromonocyclic[3,4-b]thiophene, homopolymer, 2-[1-difluoro[(1,2,2-trifluoroethenyl)oxy]methyl]-1,2,2,2-tetrafluoroethoxy]-1,1,2,2-tetrafluoroethyoxy]-1,1,2,2-tetrafluoroethanesulfonic acid-tetrafluoroethylene polymer-doped
P-09-0502 | 07/14/09 | 10/11/09 | CBI | (G) Open, non-dispersive use | (G) Blocked aromatic isocyanate
P-09-0503 | 07/15/09 | 10/12/09 | CBI | (G) Polymerization feedstock | (G) Fluoromaleate
P-09-0504 | 07/15/09 | 10/12/09 | CBI | (G) Carpet treatment additive | (G) Fluoroalkyl acrylate copolymer
P-09-0505 | 07/15/09 | 10/12/09 | CBI | (G) Coatings | (G) Aliphatic urethane acrylate
P-09-0506 | 07/14/09 | 10/11/09 | Coim USA Inc. | (S) Form insulation board | (S) Hexanedioic acid, polymer with oxybis[propanol] and 1,2,3,-propanetriol
P-09-0507 | 07/15/09 | 10/12/09 | Essential Industries | (S) Raw material for industrial coating | (G) Aliphatic polyurethane dispersion
P-09-0508 | 07/15/09 | 10/12/09 | Essential Industries | (S) Raw material for industrial coating | (G) Aliphatic polyurethane dispersion
P-09-0509 | 07/15/09 | 10/12/09 | Essential Industries | (S) Raw material for industrial coating | (G) Aliphatic polyurethane dispersion
P-09-0510 | 07/16/09 | 10/13/09 | CBI | (G) Paper treatment additive | (G) Fluoroalkyl acrylate copolymer
P-09-0511 | 07/16/09 | 10/13/09 | CBI | (G) Paper treatment additive | (G) Fluoroalkyl acrylate copolymer
P-09-0512 | 07/16/09 | 10/13/09 | Gelest, Inc. | (S) Automotive part coating; research | (S) Silane, dichlorodimethyl-, homopolymer
P-09-0513 | 07/17/09 | 10/14/09 | CBI | (S) Fixative for cellulose based substrates in paper manufacturing industry | (G) Aminoalkyl polymer with (chloromethyl)oxirane
P-09-0514 | 07/17/09 | 10/14/09 | Coim USA Inc. | (S) Packaging adhesives | (S) Hexanedioic acid, polymer with 2-methyl-1,3-propanediol
P-09-0515 | 07/16/09 | 10/13/09 | Kuraray America, Inc. | (S) Lubricants; dispersants; adhesives | (S) 2,5-furandione, polymer with 2-methyl-1-propene, amide, ammonium salt
P-09-0516 | 07/20/09 | 10/17/09 | CBI | (S) Part of two-component gravure inks and overprinting lacquers | (G) Fatty acids, C16-18 and C18-unsaturated, polymer with alkyldioic acid, cycloalkylamine, aromatic diol, C18-unsaturated fatty acid dimers, epichlorohydrin, an aromatic acid and triethylenetetramine
P-09-0517 | 07/21/09 | 10/18/09 | Essential Industries | (S) Raw material for industrial coating | (G) Aliphatic polyurethane dispersion
P-09-0518 | 07/22/09 | 10/19/09 | CBI | (G) Paper processing aid | (G) Furandione derivative
P-09-0519 | 07/24/09 | 10/21/09 | CBI | (G) Latent hardener curing agent for one and two component polyurethane products | (G) Aromatic bis-oxalolidine
P-09-0520 | 07/24/09 | 10/21/09 | CBI | (G) Coating | (G) Silane polymer mixture
P-09-0521 | 07/27/09 | 10/24/09 | CBI | (G) Functional fluid, plasticiser, solvent | (G) Dialkyl imidazolium salt
P-09-0522 | 07/27/09 | 10/24/09 | The Dow Chemical Company | (G) Surfactant | (G) Ethoxylated, butoxylated alcohol
P-09-0523 | 07/27/09 | 10/24/09 | The Dow Chemical Company | (G) Surfactant | (G) Ethoxylated, butoxylated alcohol
P-09-0524 | 07/29/09 | 10/26/09 | CBI | (G) Chemical intermediate | (G) Aromatic polyester
P-09-0525 | 07/29/09 | 10/26/09 | Huntsman Corporation | (G) Coatings | (G) Hydroxyamino aryl amine
P-09-0526 | 07/28/09 | 10/25/09 | Huntsman Corporation | (G) Coatings | (G) Hydroxyamino aryl triamine
P-09-0527 | 07/28/09 | 10/25/09 | CBI | (S) Hardener for two-part coating systems | (G) Fatty acids, polymer with an aromatic diol, C18-unsaturated fatty acids dimers, epichlorohydrin and triethylenetetramine
P-09-0528 | 07/30/09 | 10/27/09 | CBI | (G) Rubber additive | (G) Vinylsilane
P-09-0529 | 07/30/09 | 10/27/09 | CBI | (G) Open, non-dispersive use. | (G) Diacid, half ester
P-09-0530 | 07/30/09 | 10/27/09 | Forbo Adhesives, LLC | (G) Hot melt polyurethane adhesive | (G) Isocyanate functional polyester polyether urethane polymer
P-09-0531 | 07/30/09 | 10/27/09 | CBI | (G) Acrylic pressure sensitive adhesive | (G) Acrylic solution polymer
P-09-0532 | 07/30/09 | 10/27/09 | CBI | (G) Sealant | (G) Bisurea compound
P-09-0533 | 07/27/09 | 10/24/09 | Wacker Chemical Corporation | (S) Adhesion promoter | (S) Siloxanes and silicones, me hydrogen, me 3-(2-oxiranylmethoxy)propyl, ethoxy- and methoxy-terminated
P-09-0534 | 07/29/09 | 10/26/09 | CBI | (G) Open, non-dispersive use (water-borne coatings systems) | (G) Carbamic acid, (methylenedicyclohexanediyl)bis-mixed diesters with polyethylene glycol and polyethylene glycol mono ethers
P-09-0535 | 08/03/09 | 10/31/09 | CBI | (S) Synthetic intermediate | (G) Aromatic hydrocarbon
P-09-0536 | 07/29/09 | 10/26/09 | CBI | (G) Open, non-dispersive use (water-borne coatings systems) | (G) Carbamic acid, (methylenedicyclohexanediyl)bis-mixed diesters with unsaturated alcohols, polyethylene glycol and polyethylene glycol mono ethers
P-09-0537 | 07/29/09 | 10/26/09 | CBI | (G) Open, non-dispersive use (water-borne coatings systems) | (G) Polyethylene glycol, alpha, alpha′, alpha′′-propanetrilmonoesters with [[[carboxyaminitrimethylcyclohexyl]methyl]amino]carbonyl]-octadecenyloxy)polyethylene glycol
P-09-0538 | 07/29/09 | 10/26/09 | CBI | (G) Open- non-dispersive use (water-borne coatings systems) | (G) Carbamic acid, (methylenedicyclohexanediyl)bis-mixed diesters with isoalcohols, polyethylene glycol and polyethylene glycol mono ethers
P-09-0539 | 07/29/09 | 10/26/09 | CBI | (G) Open, non-dispersive use (water-borne coatings systems) | (G) Carbamic acid, (trimethylhexanediyl)bis-mixed diesters with unsaturated alcohols, isoalcohols and polyethylene glycol
P-09-0540 | 08/03/09 | 10/31/09 | CBI | (S) Synthetic intermediate | (G) Halogenated aromatic hydrocarbon
P-09-0541 | 08/03/09 | 10/31/09 | CBI | (S) A semiconductor host material for oled devices | (G) Aromatic heterocycle
P-09-0542 | 08/03/09 | 10/31/09 | CBI | (S) Uses per FFDCA: Food / flavors; fragrance material in cosmetics; Uses per TSCA: Fragrance uses; scented papers, detergents, candles, etc. | (S) 3-nonen-1-ol, 1-acetate, (3Z)-
P-09-0543 | 08/05/09 | 11/02/09 | CBI | (G) Coatings | (G) Aromatic urethane acrylate
P-09-0544 | 08/04/09 | 11/01/09 | CBI | (G) Coating raw material | (G) Polyalkyleneglycol, reaction products with hydroxyalkyl acrylate, dihydroxyalkyl alkanoic acid, sodium-aminoalkyl-alaninate, sodium salt
P-09-0545 | 08/04/09 | 11/01/09 | Dic International (USA) LLC | (G) Additive for lubricating oil | (G) Fluorinated acrylic ester copolymer (telomer type)
P-09-0546 | 08/04/09 | 11/01/09 | CBI | (G) Intermediate | (G) Formaldehyde reaction products with aromatic amine
P-09-0547 | 08/04/09 | 11/01/09 | CBI | (G) Lubricant additive | (G) Formaldehyde, reaction products with aromatic amine and alkenyl anhydride
P-09-0548 | 08/07/09 | 11/04/09 | CBI | (G) Intermediate in the production of a commercial product | (G) Alkyl thiol, manufacturer of, by-products from, distant lights
P-09-0549 | 08/07/09 | 11/04/09 | CBI | (G) Intermediate in the production of a commercial product | (G) Alkyl thiol, manufacturer of, by-products from, distant residues
P-09-0550 | 08/07/09 | 11/04/09 | CBI | (G) Intermediate in the production of a commercial product | (G) Alkyl thiol, manufacturer of, by-products from, distant lights
P-09-0551 | 08/07/09 | 11/04/09 | CBI | (G) Intermediate in the production of a commercial product | (G) Alkyl thiol, manufacturer of, by-products from, distant residues
P-09-0552 | 08/10/09 | 11/07/09 | Henkel Corporation | (S) A site limited starting material in novel polymer synthesis reactions | (S) Benzene, 1,3-bis(1-chloro-1-methylethyl)-
P-09-0553 | 08/10/09 | 11/07/09 | CBI | (G) Flame retardant polymer additive | (G) Metal phosphinate
P-09-0554 | 08/10/09 | 11/07/09 | Dynamic Fuels LLC c/o Syntroleum Corporation | (S) Renewable diesel fuel to be blended with petroleum-derived diesel | (S) Fuels, diesel C8-C18 alkane branched and linear definition: A complex combination of hydrocarbons obtained by the hydrodeoxygenation and catalytic hydroisomerization of animal fats and vegetable oils followed by distillative fractionation. It consists predominantly of branched and linear paraffins having carbon numbers in the range of C9 to C18 and boiling in the range of 179c to 309c (354.2f to 588.3f) fuels, diesel, C9-18-alkane branched and linear
P-09-0555 | 08/11/09 | 11/08/09 | CBI | (G) Dispersing resin | (G) Acrylate, polymer with aromatic vinyl monomer and acrylates
P-09-0556 | 08/10/09 | 11/07/09 | CBI | (G) Monomers for polymers and oligo ester; additive for cleaning products and / or plastics | (G) Modified ketal
P-09-0557 | 08/10/09 | 11/07/09 | CBI | (G) Monomers for polymers and oligo ester; additive for cleaning products and / or plastics | (G) Modified ketal
P-09-0558 | 08/10/09 | 11/07/09 | CBI | (G) Additive for cleaning products and / or plastics | (G) Modified ketal
P-09-0559 | 08/11/09 | 11/08/09 | CBI | (G) Treating agent | (G) Alkoxysilane
P-09-0560 | 08/11/09 | 11/08/09 | CBI | (S) Intermediate | (G) Chloroalkoxysilane
P-09-0561 | 08/11/09 | 11/08/09 | CBI | (S) Silane coupling agent | (G) Alkoxysilane
P-09-0562 | 08/12/09 | 11/09/09 | CBI | (G) Oilfield polymer | (G) Polymer of acrylamido alkyl propane sulfonic acid sodium salt and two acrylic monomers.
P-09-0563 | 08/12/09 | 11/09/09 | Interfacial solutions | (S) Interior building materials; injection molded goods - electronics | (G) Modified (poly) lactic acid
P-09-0564 | 08/10/09 | 11/07/09 | CBI | (G) Lamination adhesive | (G) Polyurethane prepolymer
P-09-0565 | 08/11/09 | 11/08/09 | CBI | (G) Chemical for use in paper making | (G) Hydrophobically modified cationic polyamide resin
P-09-0566 | 08/13/09 | 11/10/09 | CBI | (G) Open, non-dispersive use. | (G) Polysiloxane epoxy polymer
P-09-0567 | 08/13/09 | 11/10/09 | Angus Chemical Company, a subsidiary of the Dow Chemical Company | (G) Radical scavenger | (G) Hydroxylamine derivative
P-09-0568 | 08/14/09 | 11/11/09 | CBI | (S) Aerospace structural adhesive filler / syntatic system | (G) Formaldehyde, polymer with 2-(chloromethyl)oxirane, polyoxyalkane, and phenols

In Table II of this unit, EPA provides the following information (to the extent that such information is not claimed as CBI) on the Notices of Commencement to manufacture received:

II. 43 Notices of Commencement From: 7/1/09 to 8/14/09
Case No. | Received Date | Commencement Notice End Date | Chemical
P-05-0668 | 07/23/09 | 07/03/09 | (G) Maleic anhydride, adipic acid, propylene glycol, polyglycol copolymer
P-06-0325 | 07/22/09 | 06/19/09 | (G) Fatty acid polymer with aliphatic diol and aromatic diacid
P-06-0560 | 07/16/09 | 06/23/09 | (G) Fluoroalkyl methacrylate copolymer
P-07-0015 | 07/29/09 | 03/16/09 | (G) Substituted naphthalenedisulfonic acid, substituted amino azo]-, sodium salt (same generic name for both isomers)
P-07-0016 | 07/06/09 | 06/08/09 | (G) Hydrolyzed wheat silicone copolymer
P-08-0135 | 07/14/09 | 07/06/09 | (G) Silylated acrylic resin
P-08-0137 | 07/28/09 | 06/22/09 | (G) MDI polyester prepolymer
P-08-0206 | 07/24/09 | 06/29/09 | (G) Styrene/acrylate copolymer (carboxylated)
P-08-0316 | 07/15/09 | 07/08/09 | (G) Polyether polyphosphate ester
P-08-0317 | 07/15/09 | 07/08/09 | (G) Polyether polyalcohol derivative
P-08-0393 | 07/30/09 | 07/15/09 | (G) Urethane resin
P-08-0410 | 07/28/09 | 06/25/09 | (G) Glycidyl methacrylate alkyl (meth) acrylate copolymer
P-08-0476 | 07/21/09 | 09/23/08 | (G) Amine functional acrylic polymer
P-08-0504 | 07/14/09 | 06/15/09 | (G) Formaldehyde, polymer with amine and a phenol
P-08-0505 | 07/08/09 | 06/19/09 | (G) Copolymer of substituted propanesulfonic acid, maleate of ethylene oxide-propylene oxide
P-08-0546 | 07/20/09 | 06/30/09 | (S) 1,3-butanediol, manufacturer of, by-products from, distant residues
P-08-0682 | 07/15/09 | 03/16/09 | (G) Ethoxylated maleated triglyceride polymer
P-08-0751 | 07/14/09 | 07/04/09 | (G) Ester diol
P-08-0753 | 07/14/09 | 07/04/09 | (G) Organosilane derivative
P-09-0030 | 07/16/09 | 06/16/09 | (G) Polyester acrylate
P-09-0043 | 07/14/09 | 06/16/09 | (G) Benzenesulfonic acid, disodium salt
P-09-0112 | 07/28/09 | 07/06/09 | (G) Bis-A-epoxy resin - CTBN adduct
P-09-0122 | 07/23/09 | 07/19/09 | (G) Silicone modified polycarbonate
P-09-0177 | 07/16/09 | 06/21/09 | (G) Aliphatic urethane acrylate
P-09-0214 | 07/22/09 | 07/08/09 | (G) Styrene-methacrylate copolymer
P-09-0224 | 07/07/09 | 06/08/09 | (G) Isocyanate terminated urethane polymer
P-09-0284 | 07/08/09 | 06/30/09 | (G) Unsaturated polyester resin
P-09-0297 | 07/24/09 | 07/09/09 | (G) Copolymer of acrylic acid and methacrylic acid esters, and vinylcaprolactam
P-05-0351 | 08/05/09 | 07/23/09 | (G) SMA imide polyquat salt
P-05-0613 | 08/14/09 | 07/17/09 | (G) Bisphenol S mono ester
P-06-0340 | 08/12/09 | 07/28/09 | (S) Hexanedioic acid, potassium salt
P-07-0594 | 08/07/09 | 07/18/09 | (G) N,N,N-trialkylalkylamine chloride
P-07-0595 | 08/07/09 | 07/18/09 | (G) N,N,N-trialkylalkylamine acetate
P-08-0089 | 08/04/09 | 07/23/09 | (G) Fatty acid oils polymer with aromatic acid, acrylates, styrene, polyol and conjugated anhydrides
P-08-0115 | 08/05/09 | 07/13/09 | (G) Olefin copolymer
P-09-0062 | 08/06/09 | 07/22/09 | (G) Alkyl aryl ether
P-09-0132 | 08/12/09 | 07/27/09 | (G) Alkyl substituted polyamide
P-09-0170 | 08/04/09 | 07/20/09 | (G) Isocyanate terminated polyether polyurethane
P-09-0186 | 08/05/09 | 08/02/09 | (S) Phenol, polymer with formaldehyde, bu ether
P-09-0204 | 08/11/09 | 07/24/09 | (G) Siloxanes and silicones, di-me, hydroxyalkyl me, alkoxylated, polymers with diisocyanatoalkane, polyalkylene-glycol monoallyl ether-blocked
P-09-0236 | 08/11/09 | 07/31/09 | (S) Alkenes, C20-24 .alpha.-, polymers with maleic anhydride, C16-18- alkyl esters
P-98-0673 | 08/04/09 | 04/28/08 | (G) Alkyl benzene
P-98-0679 | 08/04/09 | 04/28/08 | (G) Alkyl benzenesulfonic acid

List of Subjects

Environmental protection, Chemicals, Premanufacturer notices.

Dated: September 24, 2009.
Chandler Sirmons,
Acting Director, Information Management Division, Office of Pollution Prevention and Toxics.

[FR Doc. E9-23934 Filed 10-6-09; 8:45 am]

BILLING CODE 6560-50-S